DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before July 14, 2009. Address written comments to Statutory Import Programs Staff, Room 3720, U.S. Department of Commerce, Washington, D.C. 20230. Applications may be examined between 8:30 A.M. and 5:00 P.M. at the U.S. Department of Commerce in Room 3720.

Docket Number: 09-029. Applicant: University of Virginia, P.O. Box 800736, 1340 Jefferson Park Ave., Charlottesville, VA 22908. Instrument: Electron Microscope. Manufacturer: FEI Company, the Netherlands. Intended Use: The instrument will be used to study proteins, macromolecular complexes and viruses. Specifically, this instrument will be used to investigate the structure of these materials at as high a resolution as possible. Justification for Duty-Free Entry: No instruments of same general category are manufactured in the United States. Application accepted by Commissioner of Customs: May 26, 2009.

Docket Number: 09-030. Applicant: University of Texas at El Paso, 500 W. University Ave., El Paso, TX 79968. Instrument: Electron Microscope. Manufacturer: Hitachi High-Technologies Corporation, Japan. Intended Use: The instrument will be used to investigate atomic structures and microscopic structures including minerals, metals, alloys, semiconductor materials, etc. Specifically, it will be used to understand how the structure of these materials influence their behavior and performance. Justification for Duty-Free Entry: No instruments of same general category are manufactured in the United States. Application accepted by Commissioner of Customs: May 27, 2009.

Docket Number: 09-031. Applicant: University of Toledo, 2801 W. Bancroft St., Toledo, Ohio 43606. Instrument: Electron Microscope. Manufacturer: FEI Company, Czech Republic. Intended Use: The instrument will be used for the imaging of wet samples in variable pressure mode and ESEM mode, which is required for most environmental and biological sample evaluation. Justification for Duty-Free Entry: No instruments of same general category are manufactured in the United States. Application accepted by Commissioner of Customs: May 27, 2009.

Docket Number: 09-033. Applicant: Case Western Reserve University, 10900 Euclid Ave., Cleveland, OH 44106. Instrument: Electron Microscope. Manufacturer: FEI, the Netherlands. Intended Use: The instrument will be used to study proteins at the molecular level. Justification for Duty-Free Entry: No instruments of same general category are manufactured in the United States. Application accepted by Commissioner of Customs: May 29, 2009.

Docket Number: 09-036. Applicant: University of Texas Health Science Center at Houston, 6431 Fannin St., Houston TX 77030. Instrument: Electron Microscope. Manufacturer: JEOL, Japan. Intended Use: The instrument will be used for high resolution structural analysis of eukaryotic and prokaryotic cell structures, protein filaments within and extending from the cell, protein complexes at the bacterial and eukaryotic cell surface and isolated viruses, protein filaments and secretion channels. Justification for Duty-Free Entry: No instruments of same general category are manufactured in the United States. Application accepted by Commissioner of Customs: June 5, 2009.

Docket Number: 09-037. Applicant: National Institutes of Health, 903 S. 4th St., Hamilton, MT 59840. Instrument: Electron Microscope. Manufacturer: FEI Company, Czech Republic. Intended Use: The instrument will be used to study protein complexes on viral surfaces, internal core structures, viral docking sites on host cells or tissues, 3-dimentional structures of intact viruses and high-containment bacteria, intracellular relationships between viruses and bacteria as they enter, replicate and exit cells. Justification for Duty-Free Entry: No instruments of same general category are manufactured in the United States. Application accepted by Commissioner of Customs: June 5, 2009.

Dated: June 18, 2009.
Christopher Cassel,
Acting Director, IA Subsidies Enforcement Office.

[FR Doc. E9-14885 Filed 6-23-09; 8:45 am]

BILLING CODE 3510-DS-S